DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the section on Matters to be considered.

Time and Date: The meeting is scheduled for Monday June 23, 2014 from 3:30-4:30 p.m. Eastern Daylight Time.

ADDRESSES: Conference call. Public access is available at: NOAA, SSMC 3, Room 11836, 1315 East-West Highway, Silver Spring, MD. Members of the public will not be able to dial in to this meeting.

Status: The meeting will be open to public participation with a 5-minute public comment period from 4:20-4:25 p.m. Eastern Daylight Time. The SAB expects that public statements presented at its meetings will not be repetitive of previously submitted verbal or written statements. In general, each individual or group making a verbal presentation will be limited to a total time of one minute. Written comments should be received in the SAB Executive Director's Office by June 16, 2014 to provide sufficient time for SAB review. Written comments received by the SAB Executive Director after February June 16, 2014, will be distributed to the SAB, but may not be reviewed prior to the meeting date.

Special Accommodations: These meetings are physically accessible to people with disabilities. Requests for special accommodations may be directed no later than 12 p.m. on June 16, 2014, to Dr. Cynthia Decker, SAB Executive Director, SSMC3, Room 11230, 1315 East-West Hwy., Silver Spring, MD 20910.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters To Be Considered: The meeting will include the following topics: (1) Discussion of the Revised Ecosystem-Based Fisheries Management Report from the Ecosystem Sciences and Management Working Group; and (2) Proposed Language for the Transmittal Letter for the Review Report on the Cooperative Institute for Marine Ecosystems and Climate. For the latest agenda, please visit the SAB Web site at http://www.sab.noaa.gov.

FOR FURTHER INFORMATION CONTACT: Dr. Cynthia Decker, Executive Director, Science Advisory Board, NOAA, Rm. 11230, 1315 East-West Highway, Silver Spring, Maryland 20910. (Phone: 301-734-1156, Fax: 301-713-1459, Email: Cynthia.Decker@noaa.gov).

Dated: May 27, 2014.
Jason Donaldson,
Chief Financial Officer and Chief Administrative Officer, Office of Oceanic and Atmospheric Research, National Oceanic and Atmospheric Administration.

[FR Doc. 2014-12732 Filed 5-30-14; 8:45 am]

BILLING CODE 3510-KD-P